DEPARTMENT OF TRANSPORTATION

Federal Motor Carrier Safety Administration

[Docket No. FMCSA-2016-0054]

Electronic Logging Devices Compliance Testing Procedures: Public Listening Session

AGENCY: Federal Motor Carrier Safety Administration (FMCSA), DOT.

ACTION: Announcement of public listening session.

SUMMARY: FMCSA will hold an online public listening session concerning the electronic logging device (ELD) compliance test procedures. This meeting will be a forum for providers of ELDs to give feedback to the Agency on the non-binding procedures used to determine if an ELD meets the specifications of the ELD rulemaking published on December 16, 2015. This online meeting is open to the public for its entirety.

DATES: Times and Dates: The webinar session will be held on February 25, 2016, from 1:00 to 3:00 p.m., Eastern Daylight Time (E.T.). Register at https://connectdot.connectsolutions.com/ELD-Discussion/event/registration.html.

ADDRESSES: Members of the public may submit written comments on the topics to be considered during the meeting by February 23, 2016, to Federal Docket Management System (FDMC) Docket Number FMCSA-2016-0054 using any of the following methods:

• Federal eRulemaking Portal: Go to http://www.regulations.gov. Follow the online instructions for submitting comments.

• Fax: 202-493-2251.

• Mail: Docket Management Facility; U.S. Department of Transportation, 1200 New Jersey Avenue SE., West Building, Room W12-140, Washington, DC 20590.

• Hand Delivery: U.S. Department of Transportation, 1200 New Jersey Avenue SE., Room W12-140, Washington, DC, between 9 a.m. and 5 p.m., E.T. Monday through Friday, except Federal holidays.

FOR FURTHER INFORMATION CONTACT: Mr. Brian Routhier, FMCSA MC-RRT Division, ELDCTP@dot.gov.

Services for Individuals With Disabilities

For information on facilities or services for individuals with disabilities or to request special assistance at the meeting, contact Mr. Brian Routhier, FMCSA MC-RRT Division, ELDCTP@dot.gov, by February 25, 2016.

SUPPLEMENTARY INFORMATION:

I. Background

The Federal Motor Carrier Safety Administration (FMCSA) published a final rule, Electronic Logging Devices (ELDs) and Hours of Service Supporting Documents, on December 16, 2015 (80 FR 78292). This rulemaking stated that:

FMCSA will publish compliance test procedures to assist providers in determining whether their products meet the requirements. ELD providers are not required to use FMCSA's compliance test procedures. They may use any test procedures they deem appropriate, but FMCSA will use the compliance test procedures during any investigation and rely upon the results from that testing in making a determination of whether a system satisfies the requirements of [the] rule.

Soon after the publication of the final rule, on January 26, 2016, FMCSA made the compliance test procedures available on the Web site at www.fmcsa.dot.gov/technology-providers. The Web site also stated that there would be a listening session in the future in order to get input from ELD providers.

II. Meeting Participation

This meeting is open to all members of the public. However, FMCSA particularly requests participation from the ELD provider community. An agenda for the meeting is available at www.fmcsa.dot.gov/technology-providers. Comments and input from the ELD providers and the public on the compliance test procedures will be accepted throughout the meeting, subject to the discretion of the Agency. The meeting will be live-captioned and recorded and available after the webinar on the ELD Web page in docket FMCSA-2016-0054.

This meeting offers the provider community an opportunity to give input on these voluntary compliance test procedures and share best practices. The discussion will focus solely on the compliance test procedures. As the ELD rule is final, comments about the rule, including the technical specifications, are not appropriate during this meeting. The compliance test procedures are to be used only to confirm that the technical specifications in Appendix A to Subpart B of Part 395 have been met; they do not deal with the specifications themselves.

FMCSA plans to take this opportunity to ask those providers participating about their own internal testing procedures, as well as their thoughts on the procedures FMCSA has prepared. FMCSA may revise the compliance test procedures based on information received at this listening session.

III. Docket Information

FMCSA plans to put a record of this meeting in the docket for this notice. The Agency requests that ELD providers and members of the public who cannot participate in this online listening session submit written comments to the docket as soon as practicable. FMCSA plans to docket any written materials it receives during the meeting.

Issued on: February 5, 2016.
Kelly Regal,
Associate Administrator Office of Research and Information Technology.

[FR Doc. 2016-03181 Filed 2-16-16; 8:45 am]

BILLING CODE 4910-EX-P